DEPARTMENT OF HOMELAND SECURITY

Coast Guard

33 CFR Part 165

[Docket No. USCG-2014-0384]

Annual Fireworks Displays and Other Events in the Eighth Coast Guard District Requiring Safety Zones; Point Pleasant Sternwheel Festival; Ohio River 265.2-266.2; Point Pleasant, WV

AGENCY: Coast Guard, DHS.

ACTION: Notice of enforcement of regulation.

SUMMARY: The Coast Guard will enforce the Point Pleasant Sternwheel Festival safety zone from 9:45 p.m. until 10:45 p.m. on June 28th, 2014. This action is necessary for the safety of participants and spectators, including all crews, vessels, and persons on navigable waters during the Point Pleasant Sternwheel Festival. During the enforcement period, entry into, transiting through or anchoring in the safety zone is prohibited to all vessels not registered with the sponsor as participants or official patrol vessels, unless specifically authorized by the Captain of the Port (COTP) Ohio Valley or a designated representative.

DATES: The regulations in 33 CFR 165.801, Table 1, No. 25, will be enforced from 9:45 p.m. until 10:45 p.m. on June 28th, 2014.

FOR FURTHER INFORMATION CONTACT: If you have questions on this notice of enforcement, contact Petty Officer Third Class Patrick Hunsaker at (304) 733-0198, or you may email him at STL-PF-MSUHUNTINGTON-MEC@uscg.mil.

SUPPLEMENTARY INFORMATION: This year, the Coast Guard will enforce the safety zone for the annual Point Pleasant Sternwheel Festival listed in 33 CFR 100.801 Table 1, No. 25, on June 28th, 2014 from 9:45 p.m. until 10:45 p.m. This establishes the currently published date of the last weekend in June or first weekend in July as found in 33 CFR 165.801 Table 1, No. 25.

Under the provisions of 33 CFR 165.801, entry into, or remaining or anchoring within the safety zone listed in Table 1, No. 25 is prohibited unless authorized by the Captain of the Port or a designated representative. Persons or vessels desiring to enter into or pass through the Safety Zone must request permission from the Captain of the Port or a designated representative. If permission is granted, all persons and vessels shall comply with the instructions of the Captain of the Port or designated representative.

This notice is issued under authority of 5 U.S.C. 552(a). In addition to this notice in the Federal Register, the Coast Guard will provide the maritime community with advance notification of this enforcement period via Local Notice to Mariners and Marine Information Broadcasts.

If the Captain of the Port Ohio Valley or Patrol Commander determines that the safety zone need not be enforced for the full duration stated in this notice of enforcement, he or she may use a Broadcast Notice to Mariners to grant general permission to enter the regulated area.

Dated: June 6, 2014.
R. V. Timme,
Captain, U.S. Coast Guard, Captain of the Port Ohio Valley.

[FR Doc. 2014-15121 Filed 6-26-14; 8:45 am]

BILLING CODE 9110-04-P